DEPARTMENT OF THE INTERIOR

National Park Service

Notice of Inventory Completion: University of Colorado Museum, Boulder, CO

AGENCY: National Park Service, Interior.

ACTION: Notice.

Notice is here given in accordance with the Native American Graves Protection and Repatriation Act (NAGPRA), 25 U.S.C. 3003, of the completion of an inventory of human remains in the possession of the University of Colorado Museum, Boulder, CO. The human remains were removed from southeastern Colorado.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by University of Colorado Museum professional staff in consultation with representatives of the Cheyenne-Arapaho Tribes of Oklahoma and Northern Cheyenne Tribe of the Northern Cheyenne Indian Reservation, Montana.

On an unknown date, human remains representing a minimum of one individual were removed from Mud Creek, a branch of the Purgatoire River in southeastern Colorado in or near Bent County, CO, by a soldier named Lance. No known individual was identified. No associated funerary objects are present.

Information recorded on the human remains indicates that in 1866 or 1869, a party of Cheyenne Indians was hunting in a small canyon on Mud Creek and they were ambushed by a party of Ute Indians. Several of the Cheyenne Indians were killed. The bodies were buried near the creek, and some years later, flood waters cut back the bank and exposed some of the skeletons. Lance, a soldier stationed nearby, collected a cranium. The cranium was given to his friend, David J. Burnett. On June 17, 1962, Mr. Burnett's daughter, Mrs. Ethel Burnett Zeigler, donated the cranium to the University of Colorado Museum (Catalog number 99410).

Based on the morphology of the teeth and cranium, the human remains represent a Native American adult male. Based on museum records, the human remains are Cheyenne. Descendants of the Cheyenne are members of the Cheyenne-Arapaho Tribes of Oklahoma and Northern Cheyenne Tribe of the Northern Cheyenne Indian Reservation, Montana.

Officials of the University of Colorado Museum have determined that, pursuant to 25 U.S.C. 3001 (9-10), the human remains described above represent the physical remains of one individual of Native American ancestry. Officials of the University of Colorado Museum also have determined that, pursuant to 25 U.S.C. 3001 (2), there is a relationship of shared group identity that can be reasonably traced between the Native American human remains and the Cheyenne-Arapaho Tribes of Oklahoma and Northern Cheyenne Tribe of the Northern Cheyenne Indian Reservation, Montana.

Representatives of any other Indian tribe that believes itself to be culturally affiliated with the human remains should contact Steve Lekson, Curator of Anthropology, University of Colorado Museum, Henderson Building, Campus Box 218, Boulder, CO 80309-0218, telephone (303) 492-6671, before May 2, 2007. Repatriation of the human remains to the Cheyenne-Arapaho Tribes of Oklahoma and Northern Cheyenne Tribe of the Northern Cheyenne Indian Reservation, Montana may proceed after that date if no additional claimants come forward.

The University of Colorado Museum is responsible for notifying the Cheyenne-Arapaho Tribes of Oklahoma and Northern Cheyenne Tribe of the Northern Cheyenne Indian Reservation, Montana that this notice has been published.

Dated: March 6, 2007
Sherry Hutt,
Manager, National NAGPRA Program.

[FR Doc. E7-5972 Filed 3-30-07; 8:45 am]

BILLING CODE 4312-50-S